DEPARTMENT OF DEFENSE

Office of the Secretary

32 CFR Part 205

[Docket ID: DOD-2017-OS-0004]

RIN 0790-AJ05

End Use Certificates (EUCs)

AGENCY: Office of the Under Secretary of Defense for Acquisition, Technology, and Logistics, DoD.

ACTION: Final rule.

SUMMARY: This final rule removes DoD's regulation concerning the signing of EUCs required by foreign governments for foreign defense items purchased by the United States. DoD has determined that this part does not place a burden on the public as it deals with matters internal to DoD. DoD signs end use certificates (following internal coordination and approval) at the behest of a foreign country, when DoD is buying products from that country. Therefore, this part is unnecessary and can be removed from the CFR.

DATES: This rule is effective on January 12, 2018.

FOR FURTHER INFORMATION CONTACT: Karen Kay at 703-693-0909.

SUPPLEMENTARY INFORMATION: It has been determined that publication of this CFR part removal for public comment is impracticable, unnecessary, and contrary to public interest since it is based on removing DoD internal policies and procedures that are publically available on the Department's issuance website. Once signed, a copy of DoD's internal guidance contained in DoD Directive 2040.03 will be made available at http://www.esd.whs.mil/Directives/issuances/dodd/.

This rule is being removed from the CFR because it does not place a burden on the public as it deals with matters internal to DoD. As a direct result of there being no burden on the public, there was never was a cost to the public to execute this rule, therefore, removing it does not provide a cost savings to the public.

List of Subjects in 32 CFR Part 205

Government procurement.

PART 205—[REMOVED]

Accordingly, under the authority of 5 U.S.C. 301, 32 CFR part 205 is removed.

Dated: January 9, 2018.
Aaron Siegel,
Alternate OSD Federal Register Liaison Officer, Department of Defense.

[FR Doc. 2018-00473 Filed 1-11-18; 8:45 am]

BILLING CODE 5001-06-P